DEPARTMENT OF AGRICULTURE

Food and Nutrition Service

Agency Information Collection Activities: Proposed Collection; Comment Request—In-Depth Case Studies of Advanced Modernization Initiatives

AGENCY: Food and Nutrition Service, USDA.

ACTION: Notice.

SUMMARY: In accordance with the Paperwork Reduction Act of 1995, this notice invites the general public and other public agencies to comment on a proposed information collection. This proposed collection is for “In-Depth Case Studies of Advanced Supplemental Nutrition Assistance Program (SNAP) Modernization Initiatives” and is a revision of a currently approved data collection entitled “Enhancing Food Stamp Certification: Food Stamp Modernization Efforts.” The proposed collection will build on the data collection efforts of the currently approved collection, which is a purely descriptive study. This comprehensive data collection will allow for the analyses of the potential impact of advanced modernization efforts on Program outcomes in selected States.

DATES: Written comments must be received on or before October 4, 2010.

ADDRESSES: Comments are invited on: (a) Whether the proposed collection of information is necessary for the proper performance of the functions of the agency, including whether the information shall have practical utility; (b) the accuracy of the agency's estimate of the burden of the proposed collection of information, including the validity of the methodology and assumptions used; and (c) ways to minimize the burden of the collection of information on those who are to respond, including use of appropriate automated, electronic, mechanical, or other technological collection techniques or other forms of information technology.

Comments may be sent to: Steven Carlson, Director, Office of Research and Analysis, U.S. Department of Agriculture, Food and Nutrition Service, 3101 Park Center Drive, Room 1014, Alexandria, VA 22302. Comments may also be submitted via fax to the attention of Steven Carlson at 703-305-2576 or via e-mail to Steve.Carlson@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at 703-305-2017.

SUPPLEMENTARY INFORMATION: Title: In-Depth Case Studies of Advanced SNAP Modernization Initiatives.

OMB Number: 0584-0547.

Form Number: N/A.

Expiration Date: April 30, 2011.

Type of Request: Revision of currently approved data collection.

Abstract: The Supplemental Nutrition Assistance Program (SNAP) (formerly known as the Food Stamp Program) is a critical source of support for many low-income families and individuals. In recent years, States have implemented new procedures and policies, commonly referred to as modernization, that focus on reducing SNAP administrative costs while maintaining or improving program access. Though State efforts vary, common initiatives include expanded use of technology, partnerships with community organizations, policy simplifications, and administrative restructuring.

In order to examine how modernization potentially affects key outcome measures—efficiency, access, and integrity—and establish if, and to what extent, the goals of States were met by their modernization efforts, six States have been selected for comprehensive case studies. The selection process employed a modernization index designed to identify States with the most advanced modernization initiatives. Florida, Georgia, Massachusetts, Utah, Washington, and Wisconsin were selected and have agreed to participate in this study. The study will ultimately yield a comprehensive picture of each State's experiences with modernization and assess the potential impacts of modernization. Specifically, the study will identify the steps States have taken to implement modernization changes, the challenges States experienced, and the perceptions of SNAP staff and participants regarding the changes. This information can be used by federal and State policymakers to identify important lessons. Project findings will help these policymakers understand the implications of modernization changes and identify effective modernization practices while avoiding implementation pitfalls.

The project has seven research objectives: (1) Update the existing State profiles of modernization efforts and identify the geographic and caseload coverage affected by modernization changes; (2) describe how key certification, recertification, and case management functions have changed; (3) describe the current roles and responsibilities of State and local SNAP staff, vendors, and partners and how they have changed; (4) document the relationship between SNAP modernization initiatives and stakeholder satisfaction; (5) describe the current performance of each State's modernization initiatives and the level of outcome variability within each State; (6) compare pre-, current, and post-modernization performance; and (7) document the main takeaway points for use by other States and for future study consideration.

Data collection strategies include multiple site visits, during which we will conduct interviews of SNAP staff at all levels, visit multiple local offices, hold focus groups with current participants and eligible nonparticipants, and meet with community-based partner organizations and vendors that contract with State SNAP agencies. Tailored protocols will be used for the interviews. Members for the SNAP participant focus groups will be selected using State SNAP administrative data for current participants. Members of the eligible nonparticipant focus groups will be recruited at local food banks. Potential focus group members will be offered $25 for their participation and $5 for transportation to and from the focus group location. Working parents will be offered an additional $15 for child care. To examine how within-State participation patterns vary with within-State differences in modernization, the study will also collect and analyze monthly State case record extant data. Each of the six States will receive remuneration of $75,000 to offset the costs of participating in the study.

Interview and focus group questions will be kept as simple and respondent-friendly as possible. Responses to all questions will be voluntary. The contractor will take the following steps to treat the data provided in a confidential manner: (1) No data will be released in a form that identifies individual respondents by name; and (2) information collected through interviews will be combined across other respondents in the same category and reported only in aggregate form. Respondents will be notified of these confidentiality measures during data collection.

Affected Public: State, local or tribal government; businesses or other for-profits; not-for-profit institutions; individuals or households. Respondent groups identified include: (1) SNAP staff at the State, regional, and local levels, including staff of call centers and other specialized units; (2) staff from community partners and vendors or businesses assisting with modernization efforts; and (3) current SNAP participants and eligible non-participants.

Estimated Number of Respondents: The study will collect data from a total of 606 respondents across all States. This number represents the sum of 33 State-level SNAP staff interviews; 84 district/county SNAP staff interviews; 21 interviews at SNAP call center staff or other centralized operation units staff; 154 local office SNAP staff interviews; 14 interviews with vendors; 60 interviews with staff members from community partners involved in modernization; and 120 SNAP participants and 120 eligible non-participants.

Estimated Number of Responses per Respondent: 1.

Estimated Time per Response: For all interviews of State SNAP staff, district/county SNAP staff, SNAP call center staff or centralized operation units staff, local office SNAP staff, vendor staff, and community partner staff, the burden estimate is 1.5 hours and includes respondents' time to prepare for and complete the interview. For all participating members in the focus groups, the burden estimate is 1.667 hours (100 minutes) and includes respondents' time to be screened, receive a reminder call, read a reminder letter, and to participate in the group. For all persons who decline to participate in the focus groups, the burden estimate is .0835 hours (5 minutes) and includes the respondents' time to be screened (see table below).

Estimated Total Annual Burden on Respondents and Non-Responders: Total of 1,009.1 hours, including: State SNAP staff, 49.5 hours; district/county SNAP staff, 126 hours; SNAP call center staff or centralized operation units staff, 31.5 hours; local office SNAP staff, 231 hours; vendor staff, 21 hours; community partner staff, 90 hours; SNAP participants, 200 hours; eligible non-participants, 200 hours. In addition, respondents who elect not to participate in the focus groups (refusers), the estimated total burden is 60.1 hours. The number of refusers is based on the assumption that in order to have 240 respondents ultimately attend the focus groups, 480 persons will need to be recruited. And in order for 480 persons to be recruited, twice as many persons, or 960, will need to be contacted initially.

Affected public | Respondent type | Estimated number respondents | Responses annually per respondent | Total annual responses | Estimated avg. number of hours per response | Estimated total hours
State, Local and Tribal Agencies | State SNAP staff | 33 | 1 | 33 | 1.5 | 49.5
| District/County SNAP staff | 84 | 1 | 84 | 1.5 | 126.0
| Call Center staff or centralized operation unit staff | 21 | 1 | 21 | 1.5 | 31.5
| Local office SNAP staff | 154 | 1 | 154 | 1.5 | 231.0
Business (for and not-for- | Vendor staff | 14 | 1 | 14 | 1.5 | 21.0
profit). | Community partner staff | 60 | 1 | 60 | 1.5 | 90.0
Individuals & Households | SNAP participants* | 120 | 1 | 120 | 1.667 | 200.0
| SNAP eligible nonparticipants* | 120 | 1 | 120 | 1.667 | 200.0
| Non-Responders (Focus group) | 720 | 1 | 720 | 0.0835 | 60.1
Total |  | 1,326 |  | 1,326 |  | 1,009.1
* Focus Group members will participate in a brief screening call or interview, participate in the focus group, and receive a reminder call and letter prior to the focus group.
** Focus Group refusers will participate in a brief screening call or interview.

Dated: July 23, 2010.
Julia Paradis,
Administrator, Food and Nutrition Service.

[FR Doc. 2010-19074 Filed 8-3-10; 8:45 am]

BILLING CODE 3410-30-P